DEPARTMENT OF AGRICULTURE

Office of the Secretary

Northwest Forest Plan Provincial Advisory Committees

AGENCY: Forest Service, USDA.

ACTION: Notice; Solicitation of nominees to the Northwest Forest Plan Provincial Advisory Committees.

SUMMARY: In accordance with the Federal Advisory Committee Act, 5 U.S.C. app., the United States Department of Agriculture (USDA) announces solicitation for nominations to fill vacancies on the Northwest Forest Plan Provincial Advisory Committees (the Eastern Washington Cascades and the Deschutes PACs).

DATES: Nominations must be received on or before September 24, 2012. Nominations must contain a completed application packet that includes the nominee's name, resume, and completed Form AD-755, Advisory Committee or Research and Promotion Background Information. The package must be sent to the addresses below.

ADDRESSES: Forest Contacts for Northwest Forest Plan Provincial Advisory Committees (PACs):

Eastern Washington Provincial Advisory Committee: Robin DeMario, Okanogan-Wenatchee National Forest Headquarters Office, 215 Melody Lane, Wenatchee, WA 98801. Telephone Number: (509) 664-9292.

Deschutes Provincial Advisory Committee: Mollie Chaudet, Deschutes National Forest Headquarters Office, 63095 Deschutes Market Road, Bend, OR 97701. Telephone Number: (541) 383-5517.

FOR FURTHER INFORMATION CONTACT: Shandra Terry, Public Affairs Specialist: USDA Forest Service, Office of Public and Legislative Affairs, Telephone: (503) 808-2242, Email: sterry@fs.fed.us.

SUPPLEMENTARY INFORMATION:

Background

The Secretary of Agriculture established the Pacific Northwest Provincial Advisory Committees (PACs) to the Provincial Interagency Executive Committees (PIECs) for 12 provinces, which are areas set up under the Northwest Forest Plan. The PIECs facilitate the successful implementation of the Record of Decision (ROD) of April 13, 1994, for Amendments to the Forest Service and Bureau of Land Management Planning Documents within the Range of the Northern Spotted Owl. The purpose of the PACs is to advise the PIECs on coordinating the implementation of the ROD. Each PAC provides advice regarding implementation of a comprehensive ecosystem management strategy for Federal land within a province. The PACs provide advice and recommendations to promote better integration of forest management activities between Federal and non-Federal entities to ensure that such activities are complementary.

Provincial Advisory Committee Membership

The Committee will be comprised of no more than 29 members approved by the Secretary of Agriculture. Committee membership will be fairly balanced in terms of the points of view represented and functions to be performed. The PAC members will serve staggered terms up to 3 years.

The Committee Shall Include Representation in the Following Areas

1. One or more representatives of the Environmental Protection Agency;

2. One or more representatives of the U. S. Fish and Wildlife Service;

3. One or more representatives of the Forest Service;

4. One or more representatives of the BLM in each province where lands administered by BLM occur in the province;

5. One or more representatives of the National Park Service in each province where a national park occurs in the province;

6. One or more representatives of the National Marine Fisheries Service;

7. One or more representatives of the Bureau of Indian Affairs;

8. Up to a maximum of three representatives of the government of each State within whose boundaries all or a portion of the province is located (the State agencies/departments to be represented will be determined by the Federal officials described in Paragraphs 3a(1) through 3a(7));

9. One or more representatives of each county government within whose boundaries all or a portion of the province is located, up to a maximum of three county representatives;

10. One or more representatives of each Tribal government whose reservation, ceded land, or usual and accustomed areas are within all or a portion of the province, up to a maximum of three Tribal representatives;

11. Up to a maximum of two representatives of environmental interests;

12. Up to a maximum of two representatives of different sectors of the forest products industry;

13. Up to a maximum of two representatives of the recreation and tourism sectors;

14. Three to five representatives of the following interests when those interests are determined by the Federal officials described in Paragraphs 3a(1) through 3a(7) to be needed on the respective provincial committee: Fish, wildlife, or forestry conservation organizations; special forest products interests, mining interests, grazing interests, and commercial fishing or charter fishing boat industry interests; and other interests that help achieve the purpose of this charter;

15. Up to a total of three representatives from the following Federal agencies when the jurisdiction or authority of those agencies are determined by the Federal officials described in Paragraphs 3a(1)(a) through 3a(1)(g) to be needed on the respective provincial committee: Bureau of Reclamation, Forest Service Research, U. S. Army Corps of Engineers, U. S. Geological Survey National Biological Division, Bonneville Power Administration, Department of Defense, and Natural Resources Conservation Service; and

16. Up to a maximum of three representatives representing the public at large affected by the ROD for the Northwest Forest Plan and concerned with the management of the national forests in the community.

The PACs may invite a representative of the State Community Economic Revitalization Team, or its equivalent, to participate as an ex-officio member. In the event a member is unable to attend a meeting of a PAC or a meeting of one of its subcommittees/working groups, that member may send a designee, or alternate, to represent him or her at the meeting. The Chairperson of each PAC will alternate annually between the Forest Service representative and the BLM representative in provinces where both agencies administer lands. When the BLM is not represented on the PIEC, the Forest Service representative will serve as Chairperson.

Nominations and Application Information for the PACs

The appointment of members to the PACs will be made by the Secretary of Agriculture. Any individual or organization may nominate one or more qualified persons to represent the vacancies listed above. To be considered for membership, nominees must—

1. Identify what vacancy they would represent and how they are qualified to represent that vacancy;

2. State why they want to serve on the committee and what they can contribute;

3. Show their past experience in working successfully as part of a working group on forest management activities;

4. Complete Form AD-755, you may contact the persons identified above or obtain from the following Web site: http://www.usda.gov/documents/OCIO_AD_755_Master_2012.pdf. All nominations will be vetted, by the Agency.

Equal opportunity practices, in line with USDA policies, will be followed in all appointments to the PACs. To ensure that the recommendations of the PACs have taken into account the needs of the diverse groups served by the Departments, membership should include, to the extent practicable, individuals with demonstrated ability to represent minorities, women, and persons with disabilities.

Dated: August 10, 2012.
Thomas L. Tidwell,
Chief, Forest Service.

[FR Doc. 2012-20702 Filed 8-22-12; 8:45 am]

BILLING CODE 3410-11-P